DEPARTMENT OF INTERIOR

Bureau of Land Management

[UT-062-06-1220-PM]

Notice of Supplementary Rules Requiring Human Waste Carry-Out for White Wash Sand Dunes Area, Moab Field Office, UT

AGENCY: Bureau of Land Management (BLM), Interior.

ACTION: Notice of Interim Final Supplementary Rules Requiring Human Waste Carry-out for White Wash Sand Dunes Area, Moab Field Office, Utah.

SUMMARY: These interim final supplementary rules, applicable to specified public lands administered by BLM's Moab Field Office, require the possession, set up for usage, and use of portable toilets for individuals and groups camping on public lands administered by the Moab Field Office in the White Wash Sand Dunes area of Grand County Utah. This action is necessary to protect public health and maintain public land recreation opportunities in the area.

DATES: These interim final supplementary rules are effective September 20, 2006 and will remain in effect until modified by the authorized officer or such time as constructed toilets are installed to provide reasonable coverage of the geographic area. We invite comments until November 20, 2006.

ADDRESSES: Deliver all comments concerning the interim final rule by one of the following means:

Mail, personal, or messenger delivery: address your comment to the Bureau of Land Management, Moab Field Office, 82 East Dogwood Avenue, Moab, Utah 84532; Internet: you may access the Federal eRulemaking Portal: http://www.regulations.gov; E-mail: you may send comments to momail@ut.blm.gov.

FOR FURTHER INFORMATION CONTACT: Russell von Koch, Recreation Branch Chief, BLM Moab Field Office, 82 East Dogwood Avenue, Moab, Utah 84532, or telephone 435-259-2100.

SUPPLEMENTARY INFORMATION:

I. Public Comment Procedures

Written comments on the interim final supplementary rules should be specific, confined to issues pertinent to the interim final supplementary rules, and should explain the reason for any recommended change. Where possible, comments should reference the specific section or paragraph of the rules that the comment is addressing. BLM need not consider or include in the Administrative Record for the final supplementary rules: (a) Comments that BLM receives after the close of the comment period (see DATES), unless they are postmarked or electronically dated before the deadline, or (b) comments delivered to an address other than those listed above (See ADDRESSES).

You may also access and comment on the interim final supplementary rules at the Federal eRulemaking Portal by following the instructions at that site (see ADDRESSES).

Comments, including names, street addresses, and other contact information of respondents, will be available for public review at the Moab Field Office, 82 East Dogwood Avenue, Moab, Utah 84532, during regular business hours (7:45 a.m. to 3:45 p.m.), Monday through Friday, except Federal holidays. Individual respondents may request confidentiality. If you wish to request that BLM consider withholding your name, street address, and other contact information (such as: Internet address, FAX or phone number) from public review or from disclosure under the Freedom of Information Act, you must state this prominently at the beginning of your comment. BLM will honor requests for confidentiality on a case-by-case basis to the extent allowed by law. BLM will make available for public inspection in their entirety all submissions from organizations, businesses, and government agencies, or from individuals identifying themselves as representatives or officials of such entities.

II. Background and Purpose

Improper disposal of human body waste by recreation visitors to undeveloped public lands in the White Wash Sand Dunes area near Green River, Utah, has produced conditions hazardous to public health. Subsequent to receiving public complaints, the Sanitarian for the Southeastern Utah Health Department has requested BLM to implement corrective action. Problems identified include dumping of recreational vehicle holding tanks on public roads (an illegal activity under both State and Federal law), human waste on the ground at camping areas, and frequent burying of human waste near camping areas. In addition to the public health issue, the presence of solid human waste impacts the quality of recreation opportunities in the White Wash Sand Dunes area. The interim final supplementary rules are necessary to halt ongoing impacts, provide for sanitation and public safety, and maintain the quality of recreation opportunities.

BLM finds good cause to publish these supplementary rules on an interim final basis, effective the date of publication, because of public health and safety concerns within the management area. The Moab Field Office was contacted on June 14, 2006, by the Sanitarian for the Southeastern Utah Health Department regarding human waste at White Wash Sand Dunes. The problems identified by the Sanitarian include frequent dumping of holding tanks from recreational vehicles along the main access road (presumably done as people leave the area), human waste on the ground at camping areas, and the high density of poorly buried human waste near camping areas. The Health Department has received several complaints about this situation. These conditions represent an immediate threat to human health, and cause a continuous nuisance to recreational visitors and users of nearby lands.

III. Procedural Matters

Executive Order 12866, Regulatory Planning and Review

These interim final supplementary rules are not a significant regulatory action and are not subject to review by the Office of Management and Budget under Executive Order 12866. The interim final supplementary rules will not have an annual effect of $100 million or more on the economy. They are not intended to affect commercial activity, but impose a rule on disposal of the human waste of recreational visitors for health protection reasons in a limited area of public lands. The supplementary rules will not adversely affect, in a material way, the economy, productivity, competition, jobs, the environment, public health or safety, or State, local, or tribal governments or communities. The interim final supplementary rules will not create a serious inconsistency or otherwise interfere with an action taken or planned by another agency, but in fact are in furtherance of cooperation with State and local agencies. The interim final supplementary rules do not materially alter the budgetary effects of entitlements, grants, user fees, or loan programs or the right or obligations of their recipients; nor do they raise novel legal or policy issues. They merely impose a requirement to possess and use portable toilets on recreational users of a limited portion of the public lands in Utah in order to protect human health, safety, and the environment.

Clarity of the Interim Final Supplementary Rules

Executive Order 12866 requires each agency to write regulations that are simple and easy to understand. We invite your comments on how to make these interim final supplementary rules easier to understand, including answers to questions such as the following:

(1) Are the requirements in the interim final supplementary rules clearly stated?

(2) Do the interim final supplementary rules contain technical language or jargon that interferes with their clarity?

(3) Does the format of the interim final supplementary rules (grouping and order of sections, use of headings, paragraphing, etc.) aid or reduce their clarity?

(4) Would the interim final supplementary rules be easier to understand if they were divided into more (but shorter) sections?

(5) Is the description of the interim final supplementary rules in the SUPPLEMENTARY INFORMATION section of this preamble helpful in understanding the interim final supplementary rules? How could this description be more helpful in making the interim final supplementary rules easier to understand?

Please send any comments you may have on the clarity of the interim final supplementary rules to one of the addresses specified in the ADDRESSES section.

National Environmental Policy Act

The interim final supplementary rules do not constitute a major Federal action significantly affecting the quality of the human environment under section 102(2)(C) of the National Environmental Policy Act of 1969, 42 U.S.C. 4332(2)(C). BLM has determined that this supplementary rule requiring the use of portable toilets for overnight camping is an example of routine and continuing government business, including such things as supervision, administration, operations, maintenance and replacement activities having limited context and intensity, e.g., limited size and magnitude or short-term effects. Therefore, it is categorically excluded from environmental review under section 102(2)(C) of the National Environmental Policy Act, pursuant to 516 Departmental Manual (DM), Chapter 2, Appendix 1. In addition, the supplementary rule does not meet any of the 10 criteria for exceptions to categorical exclusions listed in 516 DM, Chapter 2, Appendix 2. Pursuant to Council on Environmental Quality regulations (40 CFR 1508.4) and the environmental policies and procedures of the Department of the Interior, the term “categorical exclusions” means a category of actions which do not individually or cumulatively have a significant effect on the human environment and that have been found to have no such effect in procedures adopted by a Federal agency and for which neither an environmental assessment nor an environmental impact statement is required.

Regulatory Flexibility Act

Congress enacted the Regulatory Flexibility Act (RFA) of 1980, as amended, 5 U.S.C. 601-612, to ensure that Government regulations do not unnecessarily or disproportionately burden small entities. The RFA requires a regulatory flexibility analysis if a rule would have a significant economic impact, either detrimental or beneficial, on a substantial number of small entities. The interim final supplementary rules do not pertain specifically to commercial or governmental entities of any size, but to public recreational use of specific public lands. Therefore, BLM has determined under the RFA that the interim final supplementary rules would not have a significant economic impact on a substantial number of small entities.

Small Business Regulatory Enforcement Fairness Act (SBREFA)

These interim final supplementary rules do not constitute a “major rule” as defined at 5 U.S.C. 804(2). The interim final supplementary rules merely contain a requirement that recreational users use portable toilets and remove their solid human wastes from certain public lands. The interim final supplementary rules would not affect business, commercial, or industrial use of the public lands.

Unfunded Mandates Reform Act

The interim final supplementary rules would not impose an unfunded mandate on State, local, or tribal governments in the aggregate, or the private sector, of more than $100 million per year; nor would they have a significant or unique effect on small governments. These interim final supplementary rules do not require anything of State, local, or tribal governments. Therefore, BLM is not required to prepare a statement containing the information required by the Unfunded Mandates Reform Act (2 U.S.C. 1531 et seq.).

Executive Order 12630, Governmental Actions and Interference With Constitutionally Protected Property Rights (Takings)

The interim final supplementary rules are not a government action capable of interfering with constitutionally protected property rights. The interim final supplementary rules do not address property rights in any form, and do not cause the impairment of anybody's property rights. Therefore, the Department of the Interior has determined that these interim final supplementary rules would not cause a taking of private property or require further discussion of takings implications under this Executive Order.

Executive Order 13132, Federalism

The interim final supplementary rules will not have a substantial direct effect on the States, on the relationship between the National Government and the States, or on the distribution of power and responsibilities among the various levels of government. The interim final supplementary rules apply on a limited area of land in only one State, Utah, and are intended to comply with State and local government requirements. Therefore, BLM has determined that the interim final supplementary rules do not have sufficient federalism implications to warrant preparation of a Federalism Assessment.

Executive Order 12988, Civil Justice Reform

Under Executive Order 12988, we have determined that the interim final supplementary rules will not unduly burden the judicial system and that the requirements of sections 3(a) and 3(b)(2) of the Order are met. The supplementary rules comprise a provision requiring the use of portable toilets to protect human health and the environment.

Executive Order 13175, Consultation and Coordination With Indian Tribal Governments

In accordance with Executive Order 13175, the BLM has found that these interim final supplementary rules do not include policies that have tribal implications. The interim final supplementary rules do not affect lands held for the benefit of Indians, Aleuts, or Eskimos.

Paperwork Reduction Act

These interim final supplementary rules do not contain information collection requirements that the Office of Management and Budget must approve under the Paperwork Reduction Act, 44 U.S.C. 3501 et seq.

Author

The principal author of the interim final supplementary rules is Russell von Koch, Recreation Branch Chief, Moab Field Office, Bureau of Land Management.

Human Waste Carry-Out Supplementary Rules

1. Definition

Portable toilets may be—

a. A containerized and reusable system;

b. A commercially available biodegradable system that is landfill disposable; or

c. A toilet within a camper, trailer, or motor home.

2. Rules

a. You must possess, set up for usage, and use portable toilets for solid human body waste during overnight camping activity in the following area: Public lands administered by the Bureau of Land Management in and adjacent to the White Wash Sand Dunes near Green River, Utah, in the following sections: T. 23 S., R. 17 E., Sections 21, 22, and 28.

b. You must dispose of portable toilet waste off public land. This requirement is effective on a year-round basis and will remain in effect for camping use until modified by the authorized officer or until such time as constructed toilets are installed to provide reasonable coverage of the geographic area.

c. Campers at the above-described area at White Wash Sand Dunes must not bury, or leave exposed, solid human body waste and toilet paper soiled with solid human body waste. The draining of sewage from a trailer or other vehicle upon the public lands, except in places or receptacles provided for that purpose, is prohibited by 43 CFR 8365.1-1(b)(3).

3. Exceptions

The portable toilet requirements do not apply to activities specifically exempted by BLM, or to military, fire, emergency, and law enforcement actions. Backpacking is not regulated by these supplementary rules. Backpacking is defined as camping more than 1 mile from a road without a vehicle.

4. Implementation

This notice and a map depicting the area included under this human waste carry-out requirement are available for public review at the Moab Field Office. The area covered by this requirement is also shown on a map on the Moab Field Office's Web site at http://www.blm.gov/utah/moab. BLM will provide public land users with information about the human waste carry-out requirement using signs at or leading to major camping areas in the White Wash Sand Dunes area. Enforcement of the human waste carry-out rules will be taken as necessary in accordance with 43 CFR 8360.0-7, or violators may be subject to the enhanced penalties provided for by 18 U.S.C 3571.

5. Future Planning

This notice shall not be construed as a limitation on BLM's future planning efforts and/or management of camping use on the public lands. BLM will periodically monitor resource conditions and trends in the area described above and may modify this notice or implement additional limitations or closures as necessary.

Dated: August 2, 2006.
Gene R. Terland,
Acting, State Director.

[FR Doc. 06-7929 Filed 9-19-06; 8:45 am]

BILLING CODE 4310-DQ-P